DEPARTMENT OF TRANSPORTATION

Federal Motor Carrier Safety Administration

[Docket No. FMCSA-2008-0078]

Commercial Driver's License (CDL) Standards; Rotel North American Tours, LLC; Exemption Application

AGENCY: Federal Motor Carrier Safety Administration (FMCSA), DOT.

ACTION: Notice of final disposition.

SUMMARY: FMCSA announces its decision to grant Rotel North American Tours, LLC (Rotel), an exemption to enable 22 drivers with German commercial driver's licenses (CDLs) to operate 11 commercial motor vehicles (CMVs) in the U.S. without a CDL issued by one of the States. Rotel conducts tours of the U.S. on a seasonal basis for Europeans. It uses motor coaches that are equipped with onboard sleeping and eating facilities. The drivers, in addition to operating the CMVs, provide oral commentary in German. Rotel previously was able to conduct these operations without exemption because its drivers were able to obtain (and renew) non-resident CDLs from certain States. However, there are currently no States willing to issue non-resident CDLs. Rotel states that it must obtain this exemption or end its specialty tour operations.

DATES: This exemption is effective from July 30, 2008 through July 30, 2010.

FOR FURTHER INFORMATION CONTACT: Mr. Robert F. Schultz, Jr., FMCSA Driver and Carrier Operations Division, Office of Bus and Truck Standards and Operations. Telephone: 202-366-2718. E-mail: MCPSD@dot.gov.

SUPPLEMENTARY INFORMATION:

Background

Under 49 U.S.C. 31315 and 31136(e), FMCSA may grant an exemption from the CDL requirements in 49 CFR 383.23 for a two-year period if it finds “such exemption would likely achieve a level of safety that is equivalent to, or greater than, the level of safety that would be achieved absent such exemption” (49 CFR 381.305(a)).

Request for Exemption

Rotel, headquartered in Terre Haute, Indiana, conducts bus tours of the United States, Canada, and Mexico for Europeans from the end of March through the middle of October each year. It currently has 22 bus drivers and 11 customized buses dedicated to these operations. Rotel states that it offers a unique touring experience in that each of its buses is equipped with a galley that allows Rotel to offer dining with European cuisine. In addition, each bus is equipped with sleeping accommodations for the passengers.

Rotel drivers operate the buses and deliver oral commentary in German during the tour. The Rotel buses are CMVs as that term is defined in 49 CFR 383.5. Therefore, the operators of the buses must possess a valid U.S. CDL (49 CFR 383.23). Until recently, German drivers could obtain a non-resident CDL in most States. However, Rotel reports that because of heightened security concerns across the U.S., no State currently issues non-resident CDLs. Rotel requests that FMCSA exempt its 22 bus drivers from the requirement that they possess a CDL issued by a State, so that the drivers may operate these 11 buses without a U.S. CDL on a seasonal basis for a period of 2 years.

Rotel's drivers are residents and citizens of Germany. They hold German CDLs, but the German CDL is not recognized in the U.S. Rotel prefers to use native German drivers to conduct the tours. Rotel experimented with using other drivers, but found that the quality of its service was affected adversely.

A complete list of the names and addresses of the drivers is included in the docket of this matter. Rotel believes these drivers possess sufficient knowledge, skills, and experience to ensure a level of safety that is equivalent to, or greater than, the level of safety that would be obtained by complying with the requirement for a U.S. CDL. A copy of Rotel's application for exemption is available for review in the docket for this notice.

Comments

On March 20, 2008, FMCSA published notice of this application, and asked for public comment (73 FR 15044). Two comments were received to the public docket. Ms. Deb Carlson of the Department of Public Safety for the State of Minnesota supported the application by pointing out that Germany has “an extensive driver education requirement” and that “there should not be any concerns” in terms of safety if these drivers were allowed to operate in the U.S. The American Bus Association (ABA) opposed the application, citing safety information about Rotel that it located on public FMCSA Web sites. ABA expressed concern about Rotel's safety performance with regard to drivers, CMVs, and overall safety management. The Agency has examined the safety record of Rotel closely in each of these areas, and concludes that, while Rotel's safety record may reflect certain regulatory compliance issues, the information does not relate to driver licensing and their employees' qualifications to operate large passenger-carrying vehicles. The record reflects that Rotel is responsive in correcting safety deficiencies brought to its attention and that, as a result of an onsite compliance review conducted by FMCSA in 2007, Rotel currently has a “satisfactory” safety rating, as defined in 49 CFR part 385.

FMCSA Decision

The FMCSA has evaluated Rotel's application and the public comments on their merits. The Agency believes that Rotel's overall safety performance as reflected in its “satisfactory” rating, as well as the knowledge and skills possessed by these drivers as a result of the training program to which all German CDL applicants are exposed, ensure that each of these 22 drivers will likely achieve a level of safety that is equivalent to, or greater than, the level of safety achieved without the exemption (49 CFR 381.305(a)). The Agency hereby grants the exemption for a two-year period, beginning July 30, 2008 and ending July 30, 2010 for the following Rotel drivers: Josef Dangl, Reinfried Dangl, Herbert Erber, Helmut Erbersdobler, Wilhelm Fuchs, Ludwig Gerlsberger, Christian Hafner, Peter Hess, Michael Huber, Gerhard Kinateder, Hermann Lichtenauer, Franz Manzinger, Fabian Maurer, Jens Radloff, Rudolf Ramsl, Paul Schlögl, Walter Schreiner, Josef Stockinger, Josef Vogl, Klaus Weber, Markus Wölfl, and Norbert Zechmeister.

Interested parties possessing information that would demonstrate that any or all of these drivers are not achieving the requisite statutory level of safety should immediately notify FMCSA. The Agency will evaluate any such information and, if safety is being compromised or if the continuation of the exemption is not consistent with 49 U.S.C. 31315(b)(4) and 31136(e), will take immediate steps to revoke the exemption of the driver(s) in question, as well as Rotel's exemption, if warranted.

Issued on: July 23, 2008.
Larry W. Minor,
Associate Administrator for Policy and Program Development.

[FR Doc. E8-17393 Filed 7-29-08; 8:45 am]

BILLING CODE 4910-EX-P